DEPARTMENT OF TRANSPORTATION

National Highway Traffic Safety Administration

[Docket No. NHTSA 2003-15701; Notice 1]

Bridgestone/Firestone North America Tire, LLC; Receipt of Application for Decision of Inconsequential Noncompliance

Bridgestone/Firestone North America Tire, LLC (BFNT) has determined that approximately 1,228 P235/75R15 Peerless AMBASSADOR tires do not meet the labeling requirement mandated by Federal Motor Vehicle Safety Standard (FMVSS) No. 109, “New Pneumatic Tires.”

Pursuant to 49 U.S.C. 30118(d) and 30120(h), BFNT has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

Bridgestone/Firestone's Oklahoma City, Oklahoma plant produced approximately 1,228 tires with incorrect markings during the U.S. Department of Transportation's weeks of 17, 18, and 19 in 2003 (from April 20, 2003, through May 10, 2003). The tires were marked: “Tread Plies: 1 Polyester + 2 Steel + 1 Polyamide, Sidewall Plies: 1 Polyester.” The correct marking required by FMVSS No. 109 is “Tread Plies: 2 Polyester + 2 Steel + 1 Polyamide, Sidewall Plies: 2 Polyester.”

The labeling requirements of FMVSS No. 109, New Pneumatic Tires, S4.3, paragraphs (d) and (e), mandate that each tire have permanently molded into or onto both sidewalls the actual number of plies in the sidewall, and the actual number of plies in the tread area, if different.

Bridgestone/Firestone argues that the noncompliance described herein is inconsequential to motor vehicle safety. The noncompliant subject tires were constructed with more tread plies than indicated on the sidewall marking (two instead of one). BFNT states that this noncompliance is unlikely to have an adverse impact on motor vehicle safety since the actual construction of the subject tires is more robust than that identified on the sidewall. The noncompliant tires meet or exceed all performance requirements of FMVSS No. 109 and, the noncompliance will have no impact on the operational performance or safety of vehicles on which these tires are mounted.

Interested persons are invited to submit written views, arguments, and data on the application described above. Comments must refer to the docket and notice number cited at the beginning of this notice and be submitted by any of the following methods: Mail: Docket Management Facility; U.S. Department of Transportation, Nassif Building, Room PL-401, 400 Seventh Street, SW., Washington, DC, 20590-001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: Go to http://www.regulations.gov. Follow the online instructions for submitting comments.

All comments received before the close of business on the closing date indicated below will be considered. The application and supporting materials, and all comments received after the closing date, will also be filed and will be considered to the extent possible. When the application is granted or denied, the notice will be published in the Federal Register pursuant to the authority indicated below.

Comment closing date: September 18, 2003.

Authority: (49 U.S.C. 301118, 301120; delegations of authority at 49 CFR 1.50 and 501.8)

Issued on: August 13, 2003.
Stephen R. Kratzke,
Associate Administrator for Rulemaking.

[FR Doc. 03-21220 Filed 8-18-03; 8:45 am]

BILLING CODE 4910-59-P